DEPARTMENT OF ENERGY

Federal Energy Regulatory Commission

[EL09-4-000]

Independent Power Producers of New York, Inc., Astoria Generating Company, L.P. a U.S. Power Generating Company, ConsumerPowerLine, Inc. East Coast Power, LLC, Energy Curtailment Specialists, Inc., NRG Energy, Inc., TC Ravenswood, LLC, Complainants v. New York Independent System Operator, Inc., Respondent; Notice of Complaint

October 14, 2008.

Take notice that on October 14, 2008, Independent Power Producers of New York, Inc., Astoria Generating Company, L.P., a U.S. Power Generating Company, ConsumerPowerLine, Inc., East Coast Power, LLC, Energy Curtailment Specialists, Inc., NRG Energy, Inc., and TC Ravenswood, LLC (Complainants) filed, pursuant sections 206 and 306 of the Federal Power Act and Rule 206 of the Commission's Rules of Practice and Procedures, 18 CFR 385.206, a formal complaint against New York Independent System Operator, Inc. (Respondent) alleging that the Respondent violated Federal Power Act section 205 by (i) failing to recalculate the Net Cost of New Entry (“Net CONE”) for the proxy unit for the New York City Installed Capacity Markets and the resulting New York City Demand Curves, upon the legislative elimination of New York City's Industrial and Commercial Incentive Program real property tax exemption, thereby producing significantly understated New York City Demand Curves that will yield unjust and unreasonable rates for the remainder of the current reset period (through April 2011); and (ii) by improperly applying the standard under the Commission-approved ISO Agreement, section 19.01, for “exigent circumstances” in its failure to act, thereby producing rates that are unjust and unreasonable. Complainants request that the Commission order the Respondent to promptly file tariff amendments increasing the New York City Demand Curves to account for certain property tax costs in the calculation of the Net CONE, beginning with the spot market auction that is held following the Commission's order in this proceeding.

The Complainants request fast track processing of the complaint.

The Complainants certify that a copy of the complaint has been served on the contacts for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 3, 2008.

Kimberly D. Bose,
Secretary.

[FR Doc. E8-24954 Filed 10-20-08; 8:45 am]

BILLING CODE 6717-01-P